ENVIRONMENTAL PROTECTION AGENCY

40 CFR Part 52

[MO 096-1096b; FRL-6701-6]

Approval and Promulgation of Implementation Plans: State of Missouri

AGENCY: Environmental Protection Agency (EPA).

ACTION: Final rule.

SUMMARY: In this final rule, we (EPA) are announcing approval of a revision to Missouri's State Implementation Plan (SIP) for air pollution control. This action approves the inspection and maintenance (I/M) program which is applicable to the St. Louis nonattainment area as a revision to the SIP. The state program requires the implementation of a motor vehicle I/M program containing many of the features of an enhanced I/M program in Jefferson, St. Louis, and St. Charles counties and St. Louis City. We proposed approval of this program in the Federal Register on February 17, 2000. This final action is being published to meet our statutory obligation under the Clean Air Act (CAA or the Act).

DATES: This rule is effective on June 19, 2000.

ADDRESSES: A copy of the state submittal is available at the following address for inspection during normal business hours: EPA, Region 7, Air Planning and Development Branch, 901 North 5th Street, Kansas City, Kansas 66101.

FOR FURTHER INFORMATION CONTACT: Leland Daniels at (913) 551-7651.

SUPPLEMENTARY INFORMATION: This section provides additional information by addressing the following questions:

What Is a SIP?

Section 110 of the Clean Air Act (CAA) requires states to develop air pollution regulations and control strategies to ensure that state air quality meets the national ambient air quality standards that we established. These ambient standards are established under section 109 of the CAA, and they currently address six criteria pollutants. These pollutants are: carbon monoxide, nitrogen dioxide, ozone, lead, particulate matter, and sulfur dioxide. Each state must submit these regulations and control strategies to us for approval and incorporation into the Federally enforceable SIP. Each Federally approved SIP protects air quality primarily by addressing air pollution at its point of origin. These SIPs can be extensive, containing state regulations or other enforceable documents and supporting information such as emission inventories, monitoring networks, and modeling demonstrations.

What Is the Federal Approval Process for a SIP?

In order for state regulations to be incorporated into the Federally enforceable SIP, states must formally adopt the regulations and control strategies consistent with state and Federal requirements. This process generally includes a public notice, public hearing, public comment period, and a formal adoption by a state-authorized rulemaking body.

Once a state rule, regulation, or control strategy is adopted, the state submits it to us for inclusion into the SIP. We must provide public notice and seek additional public comment regarding our proposed action on the state submission. If adverse comments are received, we must address them prior to taking any final action.

All state regulations and supporting information that we approve under section 110 of the CAA are incorporated into the Federally approved SIP. The record of such SIP approvals is maintained in the Code of Federal Regulations (CFR) at Title 40, Part 52, entitled “Approval and Promulgation of Implementation Plans.” The actual state regulations which are approved are not reproduced in their entirety in the CFR but are “incorporated by reference,” which means that EPA has approved a given state regulation with a specific effective date.

What Does Federal Approval of a State Regulation Mean?

Enforcement of the state regulation before and after it is incorporated into the Federally approved SIP is primarily a state responsibility. However, after the regulation is Federally approved, we are authorized to take an enforcement action to return a violator to compliance. Citizens are also offered legal recourse to address violations as described in section 304 the CAA.

What Is Being Addressed in This Document?

In a letter of November 10, 1999 to Dennis Grams, Regional Administrator, Stephen Mahfood, Director, Missouri Department of Natural Resources (MDNR), submitted a revised I/M program as an amendment to the SIP. The submittal included the SIP revision and a number of attachments including the adopted state statute and regulation, the signed I/M contract, a memorandum of understanding with the Missouri Highway Patrol, an interagency agreement with the Missouri Department of Revenue (MDOR), the ­I/M budget, modeling input and output files, sample calculations, a table showing the number of vehicles in the I/M program, procedures and specifications, a list of zip codes for the I/M program, the public education program, and an example of the MDOR contract with fee offices. The Missouri rule being approved is 10 CSR 10-5.380, Motor Vehicle Emissions Inspection, with a state effective date of December 30, 1999.

On February 17, 2000 we proposed to approve this SIP revision. The proposal stated that the state I/M regulations established pass/fail exhaust standards for hydrocarbons, carbon monoxide, carbon dioxide, and oxides of nitrogen. Missouri neither passes nor fails vehicles based on carbon dioxide readings, nor do we require states to base compliance on carbon dioxide measurements, anywhere. Carbon dioxide is measured but only as a quality control process.

The public comment period was open through March 20, 2000. No comments were received. In the February 17, 2000, proposal, we noted that comments had been received on a prior proposal (64 FR 9460 on February 26, 1999) on a previous submission of the I/M program. The comments asserted deficiencies in the previous state submission. We also noted that the submission on which the February 17 proposal was based contained substantial revisions to the prior submittal, and encouraged comments relevant to the revised submittal. No comments were forthcoming, and we have determined that the prior comments are not relevant to the state's November 1999 submittal and our February 17, 2000 proposal.

On April 5, 2000 MDNR began implementation of the I/M program in the St. Louis nonattainment area.

This Federal Register notice takes final action to fully approve the I/M program, including the state's I/M rule, as it relates to the Missouri portion of the St. Louis nonattainment area.

Have the Requirements for Approval of a SIP Revision Been Met?

The state submittal has met the public notice requirements for SIP submissions in accordance with 40 CFR section 51.102. The submittal also satisfied the completeness criteria of 40 CFR part 51, appendix V. In addition, as explained above and in more detail in our proposal published February 17, 2000, the revision meets the substantive SIP requirements of the CAA, including section 110, Part D of Title I, and implementing regulations in 40 CFR part 51, subpart S (the “I/M rule”). In the February 17 proposal, we discussed in detail how the state's submittal meets each of the relevant requirements of the I/M rule and EPA's rationale for approval. The reader is referred to that discussion for the rationale for this final action.

What Action Is EPA Taking?

Section 182(b) of the Act requires states with moderate ozone nonattainment areas to implement a “basic” I/M program. The state's plan relies on the I/M program and other specific control measures to achieve the necessary emission reductions so that the National Ambient Air Quality Standards are met. The I/M rule strengthens the SIP by obtaining needed emission reductions. Today's final action incorporates the St. Louis I/M program into the SIP.

Administrative Requirements

Under Executive Order 12866 (58 FR 51735, October 4, 1993), this action is not a “significant regulatory action” and therefore is not subject to review by the Office of Management and Budget. This action merely approves state law as meeting Federal requirements and imposes no additional requirements beyond those imposed by state law. Accordingly, the Administrator certifies that this rule will not have a significant economic impact on a substantial number of small entities under the Regulatory Flexibility Act (5 U.S.C. 601 et seq.). Because this rule approves preexisting requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999), because it merely approves a state rule implementing a Federal standard, and does not alter the relationship or the distribution of power and responsibilities established in the CAA. This rule also is not subject to Executive Order 13045 (62 FR 19885, April 23, 1997), because it is not economically significant.

In reviewing SIP submissions, EPA's role is to approve state choices, provided that they meet the criteria of the CAA. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the United States Senate, the United States House of Representatives, and the Comptroller General of the United States prior to publication of the rule in the Federal Register. A major rule cannot take effect until 60 days after it is published in the Federal Register. This action is not a “major rule” as defined by 5 U.S.C. section 804(2).

Under section 307(b)(1) of the CAA, petitions for judicial review of this action must be filed in the United States Court of Appeals for the appropriate circuit by July 17, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects 40 CFR Part 52

Environmental protection, Air pollution control, Carbon monoxide, Hydrocarbons, Incorporation by reference, Intergovernmental relations, Lead, Nitrogen dioxide, Ozone, Particulate matter, Reporting and recordkeeping requirements, Sulfur oxides.

Dated: May 8, 2000.
Dennis Grams,
Regional Administrator, Region 7.

Chapter I, title 40 of the Code of Federal Regulations is amended as follows:

PART 52—[AMENDED]

1. The authority citation for part 52 continues to read as follows:

Authority: 42 U.S.C. 7401 et seq.

Subpart AA—Missouri

2. In § 52.1320 the table in paragraph (c) is amended by revising the entry for 10-5.380, under Chapter 5, to read as follows:

§ 52.1320 Identification of plan.

* * * * *

(c) * * *

EPA-Approved Missouri Regulations
Missouri citation | Title | State effective date | EPA approval date | Explanation
Missouri Department of Natural Resources
* * * * * * *
Chapter 5—Air Quality Standards and Air Pollution Control Regulations for the St. Louis Metropolitan Area
* * * * * * *
10-5.380 | Motor vehicle emissions inspection | 12/30/99 | [insert FR cite] May 18, 2000
* * * * * * *

3. In § 52.1320 the table in paragraph (e) is amended by adding an entry at the end of the table in the Nonregulatory SIP Provisions for the inspection/ maintenance program, to read as follows:

* * * * *

(e) * * *

EPA-Approved Missouri Nonregulations SIP Provisions
Name of nonregulatory SIP Provision | Applicable geographic or nonattainment area | State submittal date | EPA approval date | Comments
* * * * * * *
Implementation plan for the Missouri inspection/ maintenance program | St. Louis | 11/12/99 | [insert FR cite] May 18, 2000

[FR Doc. 00-12395 Filed 5-17-00; 8:45 am]

BILLING CODE 6560-50-P